DEPARTMENT OF ENERGY

Federal Energy Regulatory Commission

[Docket No. CP01-47-000]

Williston Basin Interstate Pipeline Company; Notice of Application

December 18, 2000.

Take notice that on December 7, 2000, Williston Basin Interstate Pipeline Company (Williston Basin), 1250 West Century Avenue, Bismarck, North Dakota 58503, filed in Docket No. CP01-47-000 an application pursuant to Section 7(c) of the Natural Gas Act (NGA) requesting a certificate of public convenience and necessity authorizing Williston Basin to install additional facilities at an existing compressor station located in Fallon County, Montana, all as more fully set forth in the application on file with the Commission and open to public inspection.¹ This filing may be viewed on the web at http://www.ferc.fed.us/online/htm (call 202-208-2222 for assistance).

¹ William Basin initially filed the application as a request under the prior notice procedure but asked that the request be treated as a Section 7(c) application in a supplement filed December 15, 2000.

Williston Basin proposes to construct and operate approximately 300 feet of 12-inch piping and 3 12-inch valves adjacent to its existing Little Beaver Compressor Station in Fallon County, Montana. Williston Basin explains that the reason for the proposed construction of facilities is to increase the operational flexibility of the compressor station. It is asserted that the existing horsepower at the compressor station will not change.

It is further asserted that the proposal is intended to allow Williston Basin to compress increased production of gas from south of the compressor station and transport the gas to storage fields or to markets located north of the compressor station. It is stated that the proposal will also provide additional system security by decreasing Williston Basin's reliance on other compression facilities during critical flow periods and during planned and unplanned maintenance. Williston Basin estimates the cost of installing the proposed piping and valves at $77,000. It is asserted that the proposal will have system benefits for Williston Basin and will have no detrimental effect on its existing customers.

Any questions regarding the application should be directed to Keith A. Tiggelaar, Manager-Regulatory Affairs, at Williston Basin Interstate Pipeline Company, P.O. Box 5601, Bismarck, North Dakota 58506-5601, or by telephone at (701) 530-1561.

Any person desiring to be heard or to make any protest with reference to said application should on or before December 28, 2000, file with the Federal Energy Regulatory Commission, 888 First Street, NE., Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules. Comments and protests may be filed electronically in lieu of paper. See 18 CFR 385.2001(a)(1)(iii) and the instructions on the Commission's website at http://ferc.fed.us/efi/doorbell.htm.

Take further notice that, pursuant to the authority contained in and subject to the jurisdiction conferred upon the Federal Energy Regulatory Commission by Sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Williston Basin to appear or be represented at the hearing.

David P. Boergers,
Secretary.

[FR Doc. 00-32686 Filed 12-21-00; 8:45 am]

BILLING CODE 6717-01-M